DEPARTMENT OF TRANSPORTATION

Federal Aviation Administration

14 CFR Part 39

[Docket No. FAA-2014-0228; Directorate Identifier 2013-NM-216-AD; Amendment 39-17911; AD 2014-15-09]

RIN 2120-AA64

Airworthiness Directives; Airbus Airplanes

AGENCY: Federal Aviation Administration (FAA), Department of Transportation (DOT).

ACTION: Final rule.

SUMMARY: We are adopting a new airworthiness directive (AD) for all Airbus Model A330-200 Freighter, A330-200 and -300, and A340-200, -300, -500, and -600 series airplanes. This AD was prompted by reassessment of an unsafe condition related to MZ-type spoiler servo-controls (SSCs) that did not remain locked in the retracted position (hydraulic locking function) after manual depressurization of the corresponding hydraulic circuit. This reassessment resulted in the determination that performing repetitive operational tests of all SSC types is necessary. This AD requires repetitive operational tests of the hydraulic locking function on each SSC installed on the blue or yellow hydraulic circuits, and replacing any affected SSC with a serviceable SSC. We are issuing this AD to detect and correct loss of the hydraulic locking function during take-off, which, in combination with one inoperative engine, could result in reduced controllability of the airplane.

DATES: This AD becomes effective September 5, 2014.

The Director of the Federal Register approved the incorporation by reference of certain publications listed in this AD as of September 5, 2014.

ADDRESSES: You may examine the AD docket on the Internet at http://www.regulations.gov/#!docketDetail;D=FAA-2014-0228 or in person at the Docket Management Facility, U.S. Department of Transportation, Docket Operations, M-30, West Building Ground Floor, Room W12-140, 1200 New Jersey Avenue SE., Washington, DC.

For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 by adding an AD that would apply to all Airbus Model A330-200 Freighter, A330-200 and -300, and A340-200, -300, -500, and -600 series airplanes. The NPRM published in the Federal Register on April 14, 2014 (79 FR 20839).

The European Aviation Safety Agency (EASA), which is the Technical Agent for the Member States of the European Community, has issued EASA Airworthiness Directive 2013-0251 dated October 15, 2013; Correction dated October 16, 2013 (referred to after this as the Mandatory Continuing Airworthiness Information, or “the MCAI”); to correct an unsafe condition for the specified products. The MCAI states:

During post-flight maintenance checks accomplished on an A330 and on an A340 airplane, it was identified that seven spoiler servo-controls MZ series had lost their hydraulic locking function. The results of the subsequent technical investigation accomplished in-shop by the part supplier confirmed the system failure was due to a sheared seal on the blocking valve, ensuring the blocking function of the spoiler. It is suspected that the seal damage may have occurred during accomplishment of a modification to fit a new design of maintenance cover on wing, required by EASA AD 2008-0160 [http://ad.easa.europa.eu/blob/easa_ad_2008_0160.pdf/AD_2008-0160], [which corresponds to FAA AD 2009-18-20, Amendment 39-16017 (74 FR 46313, September 9, 2009)].

This condition, if not detected and corrected, in combination with one engine inoperative at take-off, could result in reduced control of the aeroplane.

Prompted by these findings, Airbus issued All Operators Telex (AOT) A330-27A3185 and AOT A340-27A4181 to request a one-time operational test of the Hydraulic Locking Function for aeroplanes on which MZ type Spoiler Servo Control (SSC) Part Number (P/N) MZ4339390-12 or P/N MZ4306000-12 are fitted, and EASA issued AD 2012-0009 [http://ad.easa.europa.eu/blob/easa_ad_2012_0009.pdf/AD_2012-0009, which corresponds to FAA AD 2012-25-10, Amendment 39-17291 (77 FR 76228, December 27, 2012)] to require accomplishment of this test.

Since that [EASA] AD was issued, Airbus re-assessed the situation and determined that it is necessary to introduce repetitive inspections [operational tests] of the SSC, irrespective of SSC type. Airbus issued three SBs for those repetitive inspections [operational tests] on all A330, A340, and A340-500/600 aeroplanes.

For the reason described above, this [EASA] AD requires repetitive operational tests of the hydraulic locking function of the SSC installed on the Blue and Yellow hydraulic circuits, irrespective of the SSC type, and, depending on test results, replacement of the SSC.

This [EASA] AD has been republished to correct the date of publication.

You may examine the MCAI in the AD docket on the Internet at http://www.regulations.gov/#!documentDetail;D=FAA-2014-0228-0002.

Revised Service Information

Since the NPRM (79 FR 20839, April 14, 2014) was published, we have received the following revised service information:

• Airbus Service Bulletin A330-27-3195, Revision 01, dated February 6, 2014.

• Airbus Service Bulletin A340-27-4188, Revision 01, dated February 6, 2014.

• Airbus Service Bulletin A340-27-5059, Revision 01, dated February 6, 2014.

We have determined that this service information does not add any additional actions to those proposed in the NPRM (79 FR 20839, April 14, 2014); therefore, we have revised paragraph (g) of this AD to refer to that service information. We have also added a new paragraph (h) to this AD (and redesignated subsequent paragraphs accordingly) to provide credit for actions performed before the effective date of this AD using the following service information:

• Airbus Service Bulletin A330-27-3195, dated December 7, 2012.

• Airbus Service Bulletin A340-27-4188, dated December 7, 2012.

• Airbus Service Bulletin A340-27-5059, dated April 10, 2013.

Comments

We gave the public the opportunity to participate in developing this AD. We received no comments on the NPRM (79 FR 20839, April 14, 2014) or on the determination of the cost to the public.

“Contacting the Manufacturer” Paragraph in This AD

Since late 2006, we have included a standard paragraph titled “Airworthy Product” in all MCAI ADs in which the FAA develops an AD based on a foreign authority's AD.

The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the NPRM (79 FR 20839, April 14, 2014), we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, we proposed to change the phrase “its delegated agent” to include a design approval holder (DAH) with State of Design Authority design organization approval (DOA), as applicable, to refer to a DAH authorized to approve required repairs for the proposed AD.

No comments were provided to the NPRM (79 FR 20839, April 14, 2014) about these proposed changes. However, a comment was provided for an NPRM having Directorate Identifier 2012-NM-101-AD (78 FR 78285, December 26, 2013). The commenter stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, the European Aviation Safety Agency (EASA), or Airbus's EASA Design Organization Approval (DOA).

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Other commenters to the NPRM having Directorate Identifier 2012-NM-101-AD (78 FR 78285, December 26, 2013) pointed out that in many cases the foreign manufacturer's service bulletin and the foreign authority's MCAI might have been issued some time before the FAA AD. Therefore, the DOA might have provided U.S. operators with an approved repair, developed with full awareness of the unsafe condition, before the FAA AD is issued. Under these circumstances, to comply with the FAA AD, the operator would be required to go back to the manufacturer's DOA and obtain a new approval document, adding time and expense to the compliance process with no safety benefit.

Based on these comments, we removed the requirement that the DAH-provided repair specifically refer to this AD. Before adopting such a requirement, the FAA will coordinate with affected DAHs and verify they are prepared to implement means to ensure that their repair approvals consider the unsafe condition addressed in this AD. Any such requirements will be adopted through the normal AD rulemaking process, including notice-and-comment procedures, when appropriate.

We also have decided not to include a generic reference to either the “delegated agent” or “DAH with State of Design Authority design organization approval,” but instead we have provided the specific delegation approval granted by the State of Design Authority for the DAH throughout this AD.

Conclusion

We reviewed the relevant data and determined that air safety and the public interest require adopting this AD with the changes described previously and minor editorial changes. We have determined that these minor changes:

• Are consistent with the intent that was proposed in the NPRM (79 FR 20839, April 14, 2014) for correcting the unsafe condition; and

• Do not add any additional burden upon the public than was already proposed in the NPRM (79 FR 20839, April 14, 2014).

We also determined that these changes will not increase the economic burden on any operator or increase the scope of this AD.

Costs of Compliance

We estimate that this AD affects 77 airplanes of U.S. registry.

We also estimate that it takes about 6 work-hours per product to comply with the basic requirements of this AD. The average labor rate is $85 per work-hour. Based on these figures, we estimate the cost of the AD on U.S. operators to be $39,270, or $510 per product.

We estimate that it takes about 3 work-hours per product to do any necessary SSC replacement that would be required based on the results of the operational test. Required parts cost about $35,000 per SSC. We have no way of determining the number of aircraft that might need these replacements.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-0597; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-15-09 Airbus: Amendment 39-17911. Docket No. FAA-2014-0228; Directorate Identifier 2013-NM-216-AD.

(a) Effective Date

This AD becomes effective September 5, 2014.

(b) Affected ADs

None.

(c) Applicability

This AD applies to Airbus Model A330-201, -202, -203, -223, -223F, -243, -243F, -301, -302, -303, -321, -322, -323, -341, -342, and -343 airplanes; Model A340-211, -212, -213, -311, -312, and -313 airplanes; and Model A340-541 and -642 airplanes; certificated in any category; all manufacturer serial numbers.

(d) Subject

Air Transport Association (ATA) of America Code 27, Flight Controls.

(e) Reason

This AD was prompted by reassessment of an unsafe condition related to MZ-type spoiler servo-controls (SSCs) that did not remain locked in the retracted position (hydraulic locking function) after manual depressurization of the corresponding hydraulic circuit. This reassessment resulted in the determination that performing repetitive operational tests of all SSC types is necessary. We are issuing this AD to detect and correct loss of the hydraulic locking function during take-off, which, in combination with one inoperative engine, could result in reduced controllability of the airplane.

(f) Compliance

You are responsible for having the actions required by this AD performed within the compliance times specified, unless the actions have already been done.

(g) Repetitive Operational Tests

(1) At the time specified in paragraph (g)(2) of this AD: Accomplish an operational test of the hydraulic locking function on each SSC (any type), when fitted on the Blue or Yellow hydraulic circuits, in accordance with the Accomplishment Instructions of the applicable service information identified in paragraph (g)(1)(i), (g)(1)(ii), or (g)(1)(iii) of this AD. Repeat the operational test thereafter at intervals not to exceed 48 months.

(i) Airbus Service Bulletin A330-27-3195, Revision 01, dated February 6, 2014 (for Model A330-200 Freighter, A330-200 and -300 series airplanes).

(ii) Airbus Service Bulletin A340-27-4188, Revision 01, dated February 6, 2014 (for Model A340-200, and -300 series airplanes).

(iii) Airbus Service Bulletin A340-27-5059, Revision 01, dated February 6, 2014 (for Model A340-500 and -600 series airplanes).

(2) At the latest of the times specified in paragraphs (g)(2)(i), (g)(2)(ii), and (g)(2)(iii) of this AD, do the operational test specified in paragraph (g)(1) of this AD.

(i) Within 48 months since first flight of the airplane.

(ii) Within 48 months since accomplishing the most recent operational test, as specified in the applicable Airbus All Operators Telex (AOT) A330-27A3185; or AOT A340-27A4181; both dated January 4, 2012. These AOTs were incorporated by reference in AD 2012-25-10, Amendment 39-17291 (77 FR 76228, December 27, 2012).

(iii) Within 24 months after the effective date of this AD.

(h) Credit for Previous Actions

This paragraph provides credit for the actions required by paragraph (g) of this AD, if those actions were performed before the effective date of this AD using the applicable service information identified in paragraph (h)(1), (h)(2), or (h)(3) of this AD, which is not incorporated by reference in this AD.

(i) Airbus Service Bulletin A330-27-3195, dated December 7, 2012.

(ii) Airbus Service Bulletin A340-27-4188, dated December 7, 2012.

(iii) Airbus Service Bulletin A340-27-5059, dated April 10, 2013.

(i) Replacement of Affected SSCs

If, during any operational test required by paragraph (g)(1) of this AD, the hydraulic locking function of an SSC fails the test, before further flight, replace the affected SSC with a serviceable part, in accordance with the Accomplishment Instructions of the applicable service bulletin specified in paragraph (g)(1)(i), (g)(1)(ii), or (g)(1)(iii) of this AD.

(j) No Terminating Action

Doing the replacement required by paragraph (i) of this AD is not terminating action for the repetitive operational tests required by paragraph (g)(1) of this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(l) Related Information

(1) Refer to Mandatory Continuing Airworthiness Information (MCAI) European Aviation Safety Agency Airworthiness Directive 2013-0251 dated October 15, 2013; Correction dated October 16, 2013, for related information. This MCAI may be found in the AD docket on the Internet at http://www.regulations.gov/#!documentDetail;D=FAA-2014-0228-0002.

(2) Service information identified in this AD that is not incorporated by reference may be viewed at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-27-3195, Revision 01, dated February 6, 2014.

(ii) Airbus Service Bulletin A340-27-4188, Revision 01, dated February 6, 2014.

(iii) Airbus Service Bulletin A340-27-5059, Revision 01, dated February 6, 2014.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on July 17, 2014.
John P. Piccola,
Acting Manager, Transport Airplane Directorate, Aircraft Certification Service.

[FR Doc. 2014-17468 Filed 7-31-14; 8:45 am]

BILLING CODE 4910-13-P